DEPARTMENT OF COMMERCE

National Oceanic and Atmospheric Administration

RIN 0648-XK36

New England Fishery Management Council; Public Meeting; Cancellation

AGENCY: National Marine Fisheries Service (NMFS), National Oceanic and Atmospheric Administration (NOAA), Commerce.

ACTION: Notice of cancellation of a public meeting.

SUMMARY: The New England Fishery Management Council has cancelled the public meeting of its Groundfish Committee that was scheduled for Monday, September 29, 2008 beginning at 9 a.m., in Peabody, MA.

FOR FURTHER INFORMATION CONTACT: Paul J. Howard, Executive Director, New England Fishery Management Council; telephone: (978) 465-0492.

SUPPLEMENTARY INFORMATION: The initial notice was published on September 11, 2008, (73 FR 52831), and the meeting will be rescheduled at a later date and announced in the Federal Register.

Dated: September 16, 2008.
Tracey L. Thompson,
Acting Director, Office of Sustainable Fisheries, National Marine Fisheries Service.

[FR Doc. E8-21900 Filed 9-18-08; 8:45 am]

BILLING CODE 3510-22-S